DEPARTMENT OF TRANSPORTATION

Federal Aviation Administration

Aviation Rulemaking Advisory Committee; Meeting

AGENCY: Federal Aviation Administration (FAA), DOT.

ACTION: Notice of Aviation Rulemaking Advisory Committee (ARAC) meeting.

SUMMARY: The FAA is issuing this notice to advise the public of a meeting of the ARAC.

DATES: The meeting will be held on June 8, 2017, starting at 1:00 p.m. Eastern Standard Time. Arrange oral presentations by June 1, 2017.

ADDRESSES: The meeting will take place at the Federal Aviation Administration, 800 Independence Avenue SW., Washington, DC 20591.

FOR FURTHER INFORMATION CONTACT: Kerri Smith, Federal Aviation Administration, 800 Independence Avenue SW., Washington, DC 20591, telephone (202) 267-2371; fax (202) 267-5075; email Kerri.Smith@faa.gov.

SUPPLEMENTARY INFORMATION: Pursuant to Section 10(a)(2) of the Federal Advisory Committee Act (5 U.S.C. App. 2), we are giving notice of a meeting of the ARAC taking place on June 8, 2017, at the Federal Aviation Administration, 800 Independence Avenue SW., Washington, DC 20591.

The Agenda includes:

1. Status Report from the FAA

2. Interim Recommendation Report

a. ARAC Input to Support Regulatory Reform of Aviation Regulations

b. Air Traffic Controller Training Working Group

3. Status Reports From Active Working Groups

a. ARAC

i. Rotorcraft Occupant Protection Working Group

ii. Rotorcraft Bird Strike Working Group

iii. Load Master Certification Working Group

iv. Airman Certification Systems Working Group

b. Transport Airplane and Engine (TAE) Subcommittee

i. Transport Airplane Metallic and Composite Structures Working Group—Transport Airplane Damage-Tolerance and Fatigue Evaluation

ii. Transport Airplane Crashworthiness and Ditching Evaluation Working Group

iii. Engine Harmonization Working Group- Engine Endurance Testing Requirements—Revision of Section 33.87

iv. Airworthiness Assurance Working Group

v. Ice Crystal Icing Working Group

vi. Avionics Systems Harmonization Working Group

vii. Flight Test Harmonization Working Group—Phase 3

4. Any Other Business

Attendance is open to the interested public but limited to the space available. Please confirm your attendance with the person listed in the FOR FURTHER INFORMATION CONTACT section no later than May 26, 2017. Please provide the following information: Full legal name, country of citizenship, and name of your industry association, or applicable affiliation. If you are attending as a public citizen, please indicate so.

For persons participating by telephone, please contact the person listed in the FOR FURTHER INFORMATION CONTACT section by email or phone for the teleconference call-in number and passcode. Callers are responsible for paying long-distance charges.

The public must arrange by June 1, 2017 to present oral statements at the meeting. The public may present written statements to the Aviation Rulemaking Advisory Committee by providing 25 copies to the Designated Federal Officer, or by bringing the copies to the meeting.

If you are in need of assistance or require a reasonable accommodation for this meeting, please contact the person listed under the heading FOR FURTHER INFORMATION CONTACT. Sign and oral interpretation, as well as a listening device, can be made available if requested 10 calendar days before the meeting.

Issued in Washington, DC, on May 16, 2017.
Dale Bouffiou,
Alternate Designated Federal Officer, Aviation Rulemaking Advisory Committee.

[FR Doc. 2017-10411 Filed 5-19-17; 8:45 am]

BILLING CODE 4910-13-P